DEPARTMENT OF AGRICULTURE

Agricultural Marketing Service

7 CFR Part 205

[Doc. #AMS-NOP-10-0048; NOP-10-05]

National Organic Program: Notice of Draft Guidance for Accredited Certifying Agents and Certified Operations

AGENCY: Agricultural Marketing Service, USDA.

ACTION: Notice of availability with request for comments.

SUMMARY: The National Organic Program (NOP) is announcing the availability of five draft guidance documents intended for use by accredited certifying agents and certified operations. The five draft guidance documents are entitled as follows: Compost and Vermicompost in Organic Crop Production (NOP 5021); Wild Crop Harvesting (NOP 5022); Outdoor Access for Organic Poultry (NOP 5024); Commingling and Contamination Prevention in Organic Production and Handling (NOP 5025); and The Use of Chlorine Materials in Organic Production and Handling (NOP 5026). These draft guidance documents are intended to inform the public of NOP's current thinking on these topics. The NOP is seeking comments on the five draft guidance documents. A notice of availability of final guidance on these topics will be issued upon their final approval. Once finalized, these guidance documents will be available from the NOP through “The Program Handbook: Guidance and Instructions for Accredited Certifying Agents (ACAs) and Certified Operations”. This Handbook provides those who own, manage, or certify organic operations with guidance and instructions that can assist them in complying with the National Organic Program (NOP) regulations. The current edition of the Program Handbook is available online at http://www.ams.usda.gov/nop or in print upon request.

DATES: To ensure that NOP considers your comment on this draft guidance before it begins work on the final version of the guidance, submit written comments on the draft guidance by December 13, 2010.

ADDRESSES: Submit written requests for hard copies of these draft guidance documents to Toni Strother, Agricultural Marketing Specialist, National Organic Program, USDA-AMS-NOP, 1400 Independence Ave., SW., Room 2646 So., Ag Stop 0268, Washington, DC 20250-0268. See the SUPPLEMENTARY INFORMATION section for electronic access to the draft guidance documents.

Interested persons may comment on these five draft guidance documents using the following procedures:

Internet: http://www.regulations.gov.

Mail: Comments may be submitted by mail to: Toni Strother, Agricultural Marketing Specialist, National Organic Program, USDA-AMS-NOP, 1400 Independence Ave., SW., Room 2646 So., Ag Stop 0268, Washington, DC 20250-0268.

Written comments responding to this request should be identified with the document number AMS-NOP-10-0048; NOP-10-05. You should clearly indicate your position and the reasons for your position. You should clearly indicate which guidance document you are commenting on, especially if you choose to comment on more than one draft guidance document. If you are suggesting changes to a draft guidance document, you should include recommended language changes, as appropriate, along with any relevant supporting documentation.

USDA intends to make available all comments, including names and addresses when provided, regardless of submission procedure used, on http://www.regulations.gov and at USDA—AMS, NOP, Room 2646-South building, 1400 Independence Ave., SW., Washington, DC, from 9 a.m. to noon and from 1 to 4 p.m., Monday through Friday (except official Federal holidays). Persons wanting to visit the USDA South building to view comments from the public to this notice are requested to make an appointment by calling (202) 720-3252.

FOR FURTHER INFORMATION CONTACT: Toni Strother, Agricultural Marketing Specialist, National Organic Program (NOP), (202) 720-3252, NOP.guidance@ams.usda.gov, or visit the NOP Web site at: http://www.ams.usda.gov/nop.

SUPPLEMENTARY INFORMATION:

I. Background

The five draft guidance documents announced through this notice were selected in response to the USDA Office of Inspector General's (OIG) March 2010 Audit Report 01601-03-Hy: Oversight of the National Organic Program. The OIG findings identified specific areas of the NOP regulations where OIG recommended guidance be issued to strengthen oversight by ACAs and improve consistency and overall administration of the NOP. The NOP specifically developed Commingling and Contamination Prevention in Organic Production and Handling (NOP 5025) and Outdoor Access for Organic Poultry (NOP 5024) draft guidance in response to the OIG report. The OIG also identified the need for the NOP to act upon recommendations issued by the National Organic Standards Board (NOSB) from 2001 to 2010. The NOP developed The Use of Chlorine Materials in Organic Production and Handling (NOP 5026) and Compost and Vermicompost in Organic Crop Production (NOP 5021) in response to outstanding NOSB recommendations. The NOP also identified a need to develop guidance to address requests by ACAs and certified operations for clarifications on particular issues. Wild Crop Harvesting (NOP 5022) is an example of guidance being issued in response to these requests.

II. Significance of Guidance

These draft guidance documents are being issued in accordance with the Office of Management and Budget (OMB) Bulletin on Agency Good Guidance Practices (GGPs) (January 25, 2007, 72 FR 3432-3440).

The purpose of GGPs is to ensure that program guidance documents are developed with adequate public participation, are readily available to the public, and are not applied as binding requirements. The draft guidance, when finalized, will represent the NOP's current thinking on these topics. It does not create or confer any rights for, or on, any person and does not operate to bind the NOP or the public. Guidance documents are intended to provide a uniform method for operations to comply that can reduce the burden of developing their own methods and simplify audits and inspections. Alternative approaches that can demonstrate compliance with the Organic Foods Production Act (OFPA), as amended (7 U.S.C. 6501-6522), and its implementing regulations are also acceptable. The NOP strongly encourages industry to discuss alternative approaches with the NOP before implementing them to avoid unnecessary or wasteful expenditures of resources and to ensure the proposed alternative approach complies with the Act and its implementing regulations.

III. Electronic Access

Persons with access to Internet may obtain the draft guidance at either NOP's Web site at http://www.ams.usda.gov/nop or http://www.regulations.gov.

Dated: October 5, 2010.
Rayne Pegg,
Administrator, Agricultural Marketing Service.

[FR Doc. 2010-25730 Filed 10-12-10; 8:45 am]

BILLING CODE 3410-02-P